INTERNATIONAL TRADE COMMISSION

[Investigation No. 332-345]

Recent Trends in U.S. Services Trade, 2019 Annual Report

AGENCY: United States International Trade Commission.

ACTION: Schedule for 2019 report and opportunity to submit information.

SUMMARY: The Commission has prepared and published annual reports in this series under investigation No. 332-345, Recent Trends in U.S. Services Trade, since 1996. The 2019 report, which the Commission plans to publish in September 2019, will provide aggregate data on cross-border trade in services for the period ending in 2017, and transactions by affiliates based outside the country of their parent firm for the period ending in 2016. The report's analysis will focus on distribution services (including logistics services, maritime transport services, and retail services). The Commission is inviting interested members of the public to furnish information and views in connection with the 2019 report.

DATES: April 1, 2019: Deadline for filing written submissions.

September 20, 2019: Anticipated date for online publication of the report.

ADDRESSES: All Commission offices, including the Commission's hearing rooms, are located in the United States International Trade Commission Building, 500 E St. SW, Washington, DC. All written submissions should be addressed to the Secretary, United States International Trade Commission, 500 E St. SW, Washington, DC 20436. The public record for this investigation may be viewed on the Commission's electronic docket information system (EDIS) at https://edis.usitc.gov/.

FOR FURTHER INFORMATION CONTACT: Information specific to this investigation may be obtained from Sarah Oliver, Project Leader, Office of Industries, Services Division (202-205-3288, sarah.oliver@usitc.gov), Eric Forden, Deputy Project Leader, Office of Industries, Services Division (202-205-3235, eric.forden@usitc.gov), or Services Division Chief Martha Lawless (202-205-3497, martha.lawless@usitc.gov). For information on the legal aspects of these investigations, contact William Gearhart of the Commission's Office of the General Counsel (202-205-3091; william.gearhart@usitc.gov). The media should contact Margaret O'Laughlin, Office of External Relations (202-205-1819; margaret.olaughlin@usitc.gov). Hearing-impaired individuals may obtain information on this matter by contacting the Commission's TDD terminal at 202-205-1810. General information concerning the Commission may also be obtained by accessing its website (https://www.usitc.gov). Persons with mobility impairments who will need special assistance in gaining access to the Commission should contact the Office of the Secretary at 202-205-2000.

Background: The 2019 annual services trade report will provide aggregate data on cross-border trade in services for 2017 and affiliate transactions in services for 2016, and more specific data and information on trade in distribution services (logistics, maritime trade, and retail services). Under Commission Investigation No. 332-345, the Commission publishes two annual reports, one on services trade (Recent Trends in U.S. Services Trade), and a second on merchandise trade (Shifts in U.S. Merchandise Trade). The Commission's 2018 annual report in the series of reports on Recent Trends in U.S. Services Trade is now available online at https://www.usitc.gov.

The initial notice of institution of this investigation was published in the Federal Register on September 8, 1993 (58 FR 47287) and provided for what is now the report on merchandise trade. The Commission expanded the scope of the investigation to cover services trade in a separate report, which it announced in a notice published in the Federal Register on December 28, 1994 (59 FR 66974). The separate report on services trade has been published annually since 1996, except in 2005. As in past years, the report will summarize trade in services in the aggregate and provide analyses of trends and developments in selected services industries during the latest period for which data are published by the U.S. Department of Commerce, Bureau of Economic Analysis.

Written Submissions: The Commission invites interested parties to submit written statements concerning its 2019 report. For the 2019 report, the Commission is particularly interested in receiving information relating to trade in distribution services (logistics, maritime trade, and retail services). All written submissions should be addressed to the Secretary, and should be received no later than 5:15 p.m., April 1, 2019. All written submissions must conform with the provisions of section 201.8 of the Commission's Rules of Practice and Procedure (19 CFR 201.8). Section 201.8 and the Commission's Handbook on Filing Procedures require that interested parties file documents electronically on or before the filing deadline and submit eight (8) true paper copies by 12:00 noon Eastern time on the next business day. In the event that confidential treatment of a document is requested, interested parties must file, at the same time as the eight paper copies, at least four (4) additional true paper copies in which the confidential information must be deleted (see the paragraph below for further information regarding confidential business information or “CBI”). Persons with questions regarding electronic filing should contact the Office of the Secretary, Docket Services Division (202-205-1802).

Confidential Business Information: Any submissions that contain confidential business information (CBI) must also conform with the requirements in section 201.6 of the Commission's Rules of Practice and Procedure (19 CFR 201.6). Section 201.6 of the rules requires that the cover of the document and the individual pages be clearly marked as to whether they are confidential or non-confidential, and that the confidential business information be clearly identified by means of brackets. All written submissions, except for confidential business information, will be made available for inspection by interested parties.

The Commission intends to prepare only a public report in this investigation. The report that the Commission makes available to the public will not contain confidential business information. However, all information, including confidential business information, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel solely for cybersecurity purposes. The Commission will not otherwise disclose any confidential business information in a manner that would reveal the operations of the firm supplying the information.

Summaries of Written Submissions: The Commission intends to publish summaries of the positions of interested persons in this report. If you wish to have a summary of your position included in an appendix of the report, please include a summary with your written submission and mark the summary as submitted for that purpose. The summary may not exceed 500 words, should be in MSWord format or a format that can be easily converted to MSWord, and should not include any confidential business information. The summary will be published as provided if it meets these requirements and is germane to the subject matter of the investigation. In the report the Commission will identify the name of the organization furnishing the summary, and will include a link to the Commission's Electronic Document Information System (EDIS) where the full written submission can be found.

By order of the Commission.
Issued: March 4, 2019.
Katherine Hiner,
Acting Secretary to the Commission.

[FR Doc. 2019-04157 Filed 3-6-19; 8:45 am]

BILLING CODE 7020-02-P